DEPARTMENT OF COMMERCE

National Oceanic and Atmospheric Administration

[0648-XR025]

Endangered and Threatened Species; Take of Anadromous Fish

AGENCY: National Marine Fisheries Service (NMFS), National Oceanic and Atmospheric Administration (NOAA), Commerce.

ACTION: Notice of availability and request for comment.

SUMMARY: Notice is hereby given that the Yurok Tribal Fisheries Program (YTFP) has submitted a Tribal Research and Monitoring Plan (Tribal Plan) and associated application to NMFS pursuant to the limitation on take prohibitions for actions conducted under Tribal Plans promulgated under section 4(d) of the Endangered Species Act (ESA). The Tribal Plan and associated application describe research and monitoring activities that may affect ESA-listed Southern Oregon/Northern California Coast (SONCC) coho salmon in California. The proposed research is intended to increase knowledge of this listed species and to help guide management and conservation efforts. This document serves to notify the public that the proposed evaluation and pending determination by the Secretary of Commerce (Secretary) as to whether the implementation of the Tribal Plan will appreciably reduce the likelihood of survival and recovery of SONCC coho salmon is available for public comment.

DATES: Comments must be received at the appropriate address or fax number (see ADDRESSES) no later than 5:00 p.m. Pacific time on August 21, 2019. Comments received after this date and time may not be accepted.

ADDRESSES: Written comments on the proposed evaluation and pending determination should be addressed to NMFS (Attn: Jeff Abrams), West Coast Region, California Coastal Office, 1655 Heindon Road, Arcata, California 95521. Comments may be submitted by email addressed to: Jeff.Abrams@noaa.gov. Include in the subject line of the email the following identifier: Comments on Yurok Tribal Plan. Comments may also be sent via fax to (707) 825-4840. Comments received will also be available for public inspection, by appointment, during normal business hours by calling Jeff Abrams: (707) 825-5186.

FOR FURTHER INFORMATION CONTACT: Jeff Abrams (phone: (707) 825-5186, fax: (707) 825-4840, email: Jeff.Abrams@noaa.gov).

SUPPLEMENTARY INFORMATION:

Species Covered in This Notice

Coho salmon (Oncorhynchus kisutch): Threatened (70 FR 37160; June 28, 2005), naturally produced and artificially propagated SONCC coho salmon.

Background

The YTFP submitted a Tribal Plan to NMFS for scientific research and monitoring they propose to conduct within the Lower Klamath River and its tributaries, which are within the range of SONCC coho salmon. The Tribal Plan identifies a variety of research and assessment activities intended to provide the technical basis for fisheries and watershed management, and conserving and restoring salmon stocks and their habitat. The majority of the YTFP proposed research is motivated by a need to improve understanding of salmonid freshwater survival. Many of the proposed activities are also intended to provide information to help plan, implement, and monitor habitat protection and restoration efforts. The Tribal Plan includes implementation, monitoring, and evaluation procedures designed to ensure that the research is consistent with the objectives of the ESA. The research activities described in the Tribal Plan would take place over a five-year period starting in 2019.

As required by a rule promulgated under ESA section 4(d) related to Tribal Plans (65 FR 42481, July 10, 2000, as redesignated at 70 FR 37203, June 28, 2005; Tribal Plan 4(d) rule), the Secretary is seeking public comment on the proposed evaluation and pending determination as to whether implementation of the Tribal Plan will appreciably reduce the likelihood of survival and recovery of SONCC coho salmon.

Authority

Under section 4 of the ESA, the Secretary is required to adopt such regulations as the Secretary deems necessary and advisable for the conservation of species listed as threatened. The Tribal Plan 4(d) rule states that the ESA section 9 take prohibitions do not apply to Tribal Plans that the Secretary determines will not appreciably reduce the likelihood of survival and recovery of the listed species.

Dated: July 17, 2019.
Angela Somma,
Chief, Endangered Species Conservation Division, Office of Protected Resources, National Marine Fisheries Service.

[FR Doc. 2019-15495 Filed 7-19-19; 8:45 am]

BILLING CODE 3510-22-P